DEPARTMENT OF LABOR

Employment and Training Administration

[TA-W-61,955]

Horizon Dental Lab, LLC, Also Known as Q Dental Group PC, Rochester, New York; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on August 20, 2007, applicable to workers of Horizon Dental Lab, LLC, Rochester, New York. The notice was published in the Federal Register on September 11, 2007 (72 FR 51844).

At the request of the State agency, the Department reviewed the certification for workers of the subject firm. The workers are engaged in the production of dental prosthesis.

Information provided by the company shows that the correct name of the subject firm should read Horizon Dental Lab, LLC, also know as Q Dental Group PC. Workers separated from employment at the subject firm had their wages reported under the unemployment insurance (UI) tax account for Q Dental Group PC.

Accordingly, the Department is amending this certification to correctly identify the name of the subject firm.

The intent of the Department's certification is to include all workers of Horizon Dental Lab, LLC, Rochester, New York who were adversely affected by increased imports of dental prosthesis.

The amended notice applicable to TA-W-61,955 is hereby issued as follows:

“All workers of Horizon Dental Lab, LLC, also known as Q Dental Group PC, Rochester, New York, who became totally or partially separated from employment on or after August 1, 2006, through August 20, 2009, are eligible to apply for adjustment assistance under Section 223 of the Trade Act of 1974, and are also eligible to apply for alternative trade adjustment assistance under Section 246 of the Trade Act of 1974.”

Signed at Washington, DC, this 25th day of September 2007.
Linda G. Poole,
Certifying Officer, Division of Trade Adjustment Assistance.

[FR Doc. E7-19477 Filed 10-2-07; 8:45 am]

BILLING CODE 4510-FN-P